FEDERAL ELECTION COMMISSION

Sunshine Act Meeting; Sunshine Act Notices

AGENCY: Federal Election Commission.

Previously Announced Date & Time: Thursday, July 20, 2000, 10:00 a.m., Meeting Open to the Public

The following item was added to the agenda:

Draft Advisory Opinion 2000-12: Bill Bradley for President, Inc. and McCain 2000, Inc. by counsel, Robert F. Bauer and Trevor Potter.

DATE & TIME: Tuesday, July 25, 2000 at 10:00 a.m.

PLACE: 999 E Street, NW., Washington, DC

STATUS: This meeting will be closed to the public.

ITEMS TO BE DISCUSSED: Compliance matters pursuant to 2 U.S.C. 437g.

Audits conducted pursuant to 2 U.S.C. 437g, 438(b), and Title 26, U.S.C. Matters concerning participation in civil actions or proceedings or arbitration. Internal personnel rules and procedures or matters affecting a particular employee.

DATE & TIME: Thursday, July 27, 2000, at 10:00 a.m.

PLACE: 999 E Street, NW., Washington, DC (ninth floor)

STATUS: This meeting will be open to the public.

ITEMS TO BE DISCUSSED:

Correction and Approval of Minutes.

Advisory Opinion 2000-16—Third Millennium: Advocates for the Future, Inc. by counsel, B. Holly Schadler and Brian G. Svoboda.

Advisory Opinion 2000-17—Extendicare Health Services, Inc. by counsel, Joseph A. Rieser, Jr.

Administrative Matters.

PERSON TO CONTACT FOR INFORMATION: Mr. Ron Harris, Press Officer, Telephone: (202) 694-1220.

Mary W. Dove,
Acting Secretary of the Commission.

[FR Doc. 00-18417 Filed 7-17-00; 2:48 pm]

BILLING CODE 6715-01-M